DEPARTMENT OF COMMERCE

National Institute of Standards and Technology

Announcing an Implementation Workshop on FIPS 201, Personal Identity Verification (PIV) of Federal Employees and Contractors

AGENCY: National Institute of Standards and Technology (NIST).

ACTION: Notice of public workshop.

SUMMARY: The National Institute of Standards and Technology (NIST) will host a public workshop to provide additional guidance on Federal Information Processing Standards (FIPS) 201 implementation. The workshop is designed to provide clarifications and respond to the questions raised by the industry and Federal agencies. NIST has received many questions as to industry's plans to deliver products that are PIV-II compliant (i.e., meet the requirements of FIPS 201, PIV-II and NIST SP 800-73, end-point specifications). Commercial vendors have made significant progress in developing solutions to meet PIV-II requirements. The workshop will provide an opportunity for the industry to provide brief details to the participants, particularly agency officials, as to their product availability and planned timetables so that agencies can plan accordingly for PIV-II compliant implementations and procurement. NIST will discuss, in greater detail, the mandates and requirements of the FIPS 201 and related Special Publications through a series of educational presentations including the NIST reference implementation. The workshop agenda topics will be available at http://csrc.nist.gov/piv-project by May 31, 2005.

DATES: The FIPS 201 Implementation Workshop will be held on June 27 and 28, 2005, from 8 a.m. to 5 p.m.

ADDRESSES: The FIPS 201 Implementation Workshop will take place at a hotel facility in the Gaithersburg, Maryland area. Information about the meeting location and hotel accommodations will be available at http://csrc.nist.gov/piv-project by May 31, 2005.

Registration prior to 5 p.m. June 16, 2005, is required. All registration must be done online at https://rproxy.nist.gov/CRS/. Please go to this Conference Registration link and complete the registration form for FIPS 201 Implementation Workshop. The workshop address and registration information will be posted on the Personal Identity Verification program Web site, http://csrc.nist.gov/piv-project.

FOR FURTHER INFORMATION CONTACT: Mr. William (Curt) Barker, (301) 975-8443 or Ketan Mehta, (301) 975-8405.

SUPPLEMENTARY INFORMATION: On August 27, 2004, President Bush signed the Homeland Security Presidential Directive (HSPD) #12 (see http://www.whitehouse.gov/news/releases/2004/08/20040827-8.html) establishing a policy for a Common Identification Standard for Federal Employees and Contractors. In accordance with this Directive, the Secretary of Commerce promulgated a Federal standard for secure and reliable forms of identification of Federal Employees and Federal Contractor Employees on February 25, 2005. The standard details the requirements of government-wide identity credentials in two parts. Part 1, PIV-I, provides the control objectives and meets the security requirements of HSPD 12, while Part 2, PIV-II, provides the technical interoperability requirements of HSPD 12. PIV-II also specifies the implementation of identity credentials on integrated circuit cards for use in a Federal personal identity verification system. This standard defines the technical requirements for the identity credential that: (1) Is issued based on sound criteria for verifying an individual employee's identity; (2) is strongly resistant to identity fraud, tampering, counterfeiting, and terrorist exploitation; (3) can be rapidly authenticated electronically; (4) is issued only by providers whose reliability has been established by an official accreditation process. The standard also defines authentication mechanisms offering varying degrees of security. Federal departments and agencies will determine the level of security and authentication mechanisms appropriate for their applications. Implementation of PIV-I of the standard is to be accomplished by Federal agencies no later than October 27, 2005.

By bringing together the physical and logical security experts, this workshop will address issues and concerns in implementing FIPS 201. The sessions will include detailed discussion of FIPS 201 implementation issues. Issues associated with Special Publications 800-73, 800-78, and 800-79 (in development, Guidelines for PIV Accreditation of Card Issuing Organizations) will be addressed, as will the reference implementation of FIPS 201. The speakers will be able to answer vendor (including component developers and integrators) and Federal Government questions on implementing FIPS 201. It is anticipated that the vendor community will provide insights into their capabilities to deliver FIPS 201 compliant products, particularly for the critical PIV-II (i.e., FIPS 201, PIV-II and NIST SP 800-73, end-point specifications).

Dated: May 31, 2005.
Hratch G. Semerjian,
Acting Director.

[FR Doc. 05-11447 Filed 6-8-05; 8:45 am]

BILLING CODE 3510-CN-P